DEPARTMENT OF LABOR

Employment and Training Administration

[TA-W-70,910]

Sypris Technologies, Sypris Solutions Division, Kenton, OH; Notice of Revised Determination on Reconsideration

On October 7, 2010, the Department of Labor issued a Notice of Affirmative Determination Regarding Application for Reconsideration applicable to the request for administrative reconsideration filed by the United Steel Workers, Local 1-109, on behalf of workers and former workers of Sypris Technologies, Sypris Solutions Division, Kenton, Ohio (subject firm). The Department's Notice was published in the Federal Register on October 25, 2010 (75 FR 65514).

The initial investigation resulted in a negative determination that was based on the findings that increased imports did not contribute importantly to worker separations at the subject firm and no shift in production to a foreign country occurred.

During the reconsideration investigation, the Department conducted an expanded survey of the subject firm's major declining customers to supplement the information gathered during the initial investigation. The survey revealed increased customer reliance on imported trailer axle beams and that the increased imports had contributed importantly to worker separations at the subject firm.

Conclusion

After careful review of the additional facts obtained during the reconsideration investigation, I determine that workers of Sypris Technologies, Sypris Solutions Division, Kenton, Ohio, who are engaged in employment related to the production of trailer axle beams, meet the worker group certification criteria under Section 222(a) of the Act, 19 U.S.C. 2272(a). In accordance with Section 223 of the Act, 19 U.S.C. 2273, I make the following certification:

“All workers of Sypris Technologies, Sypris Solutions Division, Kenton, Ohio, who became totally or partially separated from employment on or after May 18, 2008, through two years from the date of this certification, and all workers in the group threatened with total or partial separation from employment on date of certification through two years from the date of certification, are eligible to apply for adjustment assistance under Chapter 2 of Title II of the Trade Act of 1974, as amended.”

Signed in Washington, DC, this 16th day of November, 2010.
Del Min Amy Chen,
Certifying Officer, Office of Trade Adjustment Assistance.

[FR Doc. 2010-29823 Filed 11-26-10; 8:45 am]

BILLING CODE 4510-FN-P